DEPARTMENT OF LABOR

Employment and Training Administration

[TA-W-64,127]

Hewlett-Packard Company, Inkjet Consumer Solutions, HP Consumer Hardware Inkjet Lab, Including Leased Workers From Hightower Technology Capital, Inc., Syncro Design, VMC, PDG Oncore, K Force, Supply Source, Sigma Design, Novo Engineering, Act, Stilwell Baker, and Beyondsoft, Vancouver, WA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 23, 2008, applicable to all workers of Hewlett-Packard Company, Inkjet Consumer Solutions, HP Consumer Hardware Inkjet Lab, Vancouver, Washington. The notice was published in the Federal Register on November 10, 2008 (73 FR 66676). The notice was amended on January 9, 2009 to include on-site leased workers from Hightower Technology Capital, Inc. The notice was published in the Federal Register on January 26, 2009 (74 FR 4460).

At the request of the State agency, the Department reviewed the certification for workers of the subject firm. The workers developed research design, engineering specifications, and drawings used in the manufacturing of HP Deskjet and Photosmart printers.

New information shows that workers leased from Syncro Design, VMC, PDG Oncore, K Force, Supply Source, Sigma Design, Novo Engineering, ACT, Stilwell Baker and BeyondSoft were employed on-site at the Vancouver, Washington location of Hewlett Packard Company, Inject Consumer Solutions, HP Consumer Hardware Inject Lab. The Department has determined that these workers were sufficiently under the control of the subject firm to be considered leased workers.

Based on these findings, the Department is amending this certification to include workers leased from Syncro Design, VMC, PDG Oncore, K Force, Supply Source, Sigma Design, Novo Engineering, ACT, Stilwell Baker and BeyondSoft working on-site at the Vancouver, Washington location of the subject firm.

The intent of the Department's certification is to include all workers employed at Hewlett Packard Company, Inkjet Consumer Solutions, HP Consumer Hardware Inkjet Lab, Vancouver, Washington who were adversely affected by a shift in production to Shanghai, China.

The amended notice applicable to TA-W-64,127 is hereby issued as follows:

All workers of Hewlett-Packard Company, Inkjet Consumer Solutions, HP Consumer Hardware Inkjet Lab, Vancouver, Washington, including on-site leased workers of Hightower Technology Capital, Inc., Syncro Design, VMC, PDG Oncore, K Force, Supply Source, Sigma Design, Novo Engineering, ACT, Stilwell Baker and BeyondSoft, who became totally or partially separated from employment on or after September 26, 2007 through October 23, 2010, are eligible to apply for adjustment assistance under Section 223 of the Trade Act of 1974, and are also eligible to apply for alternative trade adjustment assistance under Section 246 of the Trade Act of 1974.

Signed in Washington, DC, this 3rd day of June 2010.
Richard Church,
Certifying Officer, Division of Trade Adjustment Assistance.

[FR Doc. 2010-14459 Filed 6-15-10; 8:45 am]

BILLING CODE 4510-FN-P